DEPARTMENT OF ENERGY

Federal Energy Regulatory Commission

Combined Notice of Filings #1

Take notice that the Commission received the following electric corporate filings:

Docket Numbers: EC12-80-000.

Applicants: Pioneer Trail Wind Farm, LLC.

Description: Application for Authorization Under Section 203 of the Federal Power Act, Requests for Waivers of Filing Requirements, Expedited Review and Confidential Treatment of Pioneer Trail Wind Farm, LLC.

Filed Date: 3/14/12.

Accession Number: 20120314-5019.

Comments Due: 5 p.m. ET 4/4/12.

Take notice that the Commission received the following electric rate filings:

Docket Numbers: ER10-2179-007; ER10-2181-007; ER10-2182-007.

Applicants: R.E. Ginna Nuclear Power Plant, LLC, Nine Mile Point Nuclear Station, LLC, Calvert Cliffs Nuclear Power Plant, LLC.

Description: Supplemental Filing of the CENG Nuclear Entities.

Filed Date: 2/29/12.

Accession Number: 20120229-5081.

Comments Due: 5 p.m. ET 3/21/12.

Docket Numbers: ER10-2502-002; ER11-2724-002; ER11-4436-001; ER10-2472-002; ER10-2473-002.

Applicants: Black Hills Colorado IPP, LLC, Black Hills/Colorado Electric Utility Company, LP, Black Hills Power, Inc., Black Hills Wyoming, LLC, Cheyenne Light, Fuel and Power Company.

Description: Notification of Non-Material Change in Status of Black Hills/Colorado Electric Utility Company, LP, et al.

Filed Date: 3/14/12.

Accession Number: 20120314-5034.

Comments Due: 5 p.m. ET 4/4/12.

Docket Numbers: ER12-733-001.

Applicants: Promet Energy Partners, LLC.

Description: Compliance Filing for MBR Tariff Baseline to be effective 12/30/2011.

Filed Date: 3/14/12.

Accession Number: 20120314-5057.

Comments Due: 5 p.m. ET 4/4/12.

Docket Numbers: ER12-1255-000.

Applicants: PJM Interconnection, L.L.C., American Electric Power Service Corporation.

Description: AEPSC revises PJM OATT Attachments H-14 and H-20 merging CSPC into Ohio Power to be effective 1/1/2012.

Filed Date: 3/14/12.

Accession Number: 20120314-5041.

Comments Due: 5 p.m. ET 4/4/12.

Docket Numbers: ER12-1256-000.

Applicants: ISO New England Inc.

Description: ISO New England Inc. CMEEC Capacity Supply Obligation Resource Termination.

Filed Date: 3/14/12.

Accession Number: 20120314-5046.

Comments Due: 5 p.m. ET 4/4/12.

Docket Numbers: ER12-1257-000.

Applicants: ISO New England Inc.

Description: ISO New England Inc. Longfellow Capacity Supply Obligation Resource Termination.

Filed Date: 3/14/12.

Accession Number: 20120314-5047.

Comments Due: 5 p.m. ET 4/4/12.

Docket Numbers: ER12-1258-000.

Applicants: Entergy Services, Inc.

Description: Entergy Services, Inc. submits Notice of Termination of FERC Rate Schedule No. 198.

Filed Date: 3/14/12.

Accession Number: 20120314-5049.

Comments Due: 5 p.m. ET 4/4/12.

Docket Numbers: ER12-1259-000.

Applicants: PJM Interconnection, L.L.C., Potomac-Appalachian Highline Transmission.

Description: PATH submits PJM OATT Att H-19A & Refund Report per 2/16/2012 Order in ER08-386 to be effective 1/1/2011.

Filed Date: 3/14/12.

Accession Number: 20120314-5055.

Comments Due: 5 p.m. ET 4/4/12.

Docket Numbers: ER12-1260-000.

Applicants: Stephentown Spindle, LLC.

Description: Notice of Succession to be effective 3/7/2012.

Filed Date: 3/14/12.

Accession Number: 20120314-5060.

Comments Due: 5 p.m. ET 4/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2012.
Nathaniel J. Davis, Sr.,
Deputy Secretary.

[FR Doc. 2012-6792 Filed 3-20-12; 8:45 am]

BILLING CODE 6717-01-P